DEPARTMENT OF DEFENSE

Department of the Air Force

[Docket ID USAF-2012-0020]

Privacy Act of 1974; System of Records

AGENCY: Department of the Air Force, DoD.

ACTION: Notice To Alter a System of Records.

SUMMARY: The Department of the Air Force proposes to alter a system of records in its inventory of record systems subject to the Privacy Act of 1974 (5 U.S.C. 552a), as amended.

DATES: This proposed action will be effective on November 13, 2012 unless comments are received which result in a contrary determination. Comments will be accepted on or before November 9, 2012.

ADDRESSES: You may submit comments, identified by docket number and title, by any of the following methods:

• Federal Rulemaking Portal: http://www.regulations.gov. Follow the instructions for submitting comments.

• Mail: Federal Docket Management System Office, 4800 Mark Center Drive, Suite 02G09, Alexandria, VA 22350-3100.

Instructions: All submissions received must include the agency name and docket number for this Federal Register document. The general policy for comments and other submissions from members of the public is to make these submissions available for public viewing on the Internet at http://www.regulations.gov as they are received without change, including any personal identifiers or contact information

FOR FURTHER INFORMATION CONTACT: Mr. Charles J. Shedrick, Department of the Air Force Privacy Office, Air Force Privacy Act Office, Office of Warfighting Integration and Chief Information Officer, ATTN: SAF/CIO A6, 1800 Air Force Pentagon, Washington, DC 20330-1800, or by phone at (202) 404-6575.

SUPPLEMENTARY INFORMATION: The Department of the Air Force's notices for systems of records subject to the Privacy Act of 1974 (5 U.S.C. 552a), as amended, have been published in FOR FURTHER INFORMATION CONTACT.

The proposed system report, as required by 5 U.S.C. 552a(r) of the Privacy Act of 1974, as amended, was submitted on October 2, 2012, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: October 4, 2012.
Aaron Siegel,
Alternate OSD Federal Register Liaison Officer, Department of Defense.

F051 AFJA D

System name:

Patent Infringement and Litigation Records (November 12, 2008, 73 FR 66875).

Changes:

* * * * *

System Location:

Delete entry and replace with “Air Force Legal Operations Agency, Commercial Law and Litigation Directorate, 1500 W. Perimeter Rd., Ste. 1780, Joint Base Andrews, MD 20742-0001.”

* * * * *

Categories of records in the system:

Delete entry and replace with “Social Security Number (SSN), name, home address, phone numbers or other personal contact information that may be submitted by individual, letters; messages; forms; reports; contracts; bids; photographs; legal opinions; petitions; answers; discovery documents; memoranda; infringement studies; validity studies; procurement information; license agreements; other documents that may include contract determinations, witness statements, and engineering and technical reports.”

Authority for Maintenance of the System:

Delete entry and replace with “10 U.S.C. 8013, Secretary of the Air Force; 10 U.S.C. 8037, Judge Advocate General, Deputy Judge Advocate General: Appointment and Duties; 10 U.S.C. 2386, Copyrights, Patents, Designs; 22 U.S.C. 2356, Foreign Assistance, acquisition; 28 U.S.C. 1498, Patent and copyright cases; 35 U.S.C. 183, Right to compensation, Air Force Instruction 51-301, Intellectual Property—Patents, Patent Related Matters, Trademarks and Copyrights; and E.O. (SSN) 9397, as amended.”

* * * * *

Storage:

Delete entry and replace with “Case files are maintained in file folders and electronic storage media.”

* * * * *

Retention and Disposal:

Delete entry and replace with “Retained in office files for three years after end of year in which the case was closed, then retired to Washington National Records Center, Washington, DC 20409, for retention up to twenty five years thereafter, then destroyed by tearing into pieces, shredding, pulping, macerating, or burning. Records in computer storage are destroyed by degaussing or overwriting.”

System Manager(s) and Address:

Delete entry and replace with “Air Force Legal Operations Agency, Commercial Law and Litigation Directorate, 1500 W. Perimeter Rd., Ste. 1780, Joint Base Andrews, MD 20742-0001.”

Notification procedure:

Delete entry and replace with “Individuals seeking to determine whether information about themselves is contained in this system should address written inquiries to or visit the Air Force Legal Operations Agency, Commercial Law and Litigation Directorate, 1500 W. Perimeter Rd., Ste. 1780, Joint Base Andrews, MD 20742-0001.”

For verification purposes, individuals should provide their full name, SSN, any details which may assist in location of records, and their signature.

In addition, the requester must provide a notarized statement or an unsworn declaration made in accordance with 28 U.S.C. 1746, in the following format:

If executed outside the United States:

`I declare (or certify, verify, or state) under penalty of perjury under the laws of the United States of America that the foregoing is true and correct. Executed on (date). (Signature)'.

If executed within the United States, its territories, possessions, or commonwealths: `I declare (or certify, verify, or state) under penalty of perjury that the foregoing is true and correct. Executed on (date). (Signature)'.

Record access procedures:

Delete entry and replace with “Individuals seeking to access records about themselves contained in this system should address written requests to or visit the Air Force Legal Operations Agency, Commercial Law and Litigation Directorate, 1500 W. Perimeter Rd., Ste. 1780, Joint Base Andrews, MD 20742-0001.

For verification purposes, individuals should provide their full name, SSN, any details which may assist in location records, and their signature.

In addition, the requester must provide a notarized statement or an unsworn declaration made in accordance with 28 U.S.C. 1746, in the following format:

If executed outside the United States:

`I declare (or certify, verify, or state) under penalty of perjury under the laws of the United States of America that the foregoing is true and correct. Executed on (date). (Signature)'.

If executed within the United States, its territories, possessions, or commonwealths: `I declare (or certify, verify, or state) under penalty of perjury that the foregoing is true and correct. Executed on (date). (Signature)'.”

* * * * *

[FR Doc. 2012-24898 Filed 10-9-12; 8:45 am]

BILLING CODE 5001-06-P